DEPARTMENT OF DEFENSE

48 CFR Part 219

[DFARS Case 2003-D003]

Defense Federal Acquisition Regulation Supplement; Competitiveness Demonstration Codes Update

AGENCY: Department of Defense (DoD).

ACTION: Final rule.

SUMMARY: DoD has issued a final rule amending the Defense Federal Acquisition Regulation Supplement (DFARS) to update the list of industry categories designated by DoD for enhanced small business participation under the Small Business Competitiveness Demonstration Program.

EFFECTIVE DATE: August 21, 2003.

FOR FURTHER INFORMATION CONTACT: Mr. Euclides Barrera, Defense Acquisition Regulations Council, OUSD(AT&L)DPAP(DAR), IMD 3C132, 3062 Defense Pentagon, Washington, DC 20301-3062. Telephone (703) 602-0296; facsimile (703) 602-0350. Please cite DFARS Case 2003-D003.

SUPPLEMENTARY INFORMATION:

A. Background

Policy for the Small Business Competitiveness Demonstration Program is in FAR subpart 19.10. One of the objectives of the Program is to expand small business participation in certain targeted industry categories. Each Federal agency participating in the Program designates its own targeted categories in consultation with the Small Business Administration. DoD's targeted categories are in DFARS 219.1005(b).

This final rule updates the North American Industry Classification System (NAICS) codes shown for the targeted industry categories at 219.1005(b)(10), for consistency with the 2002 NAICS listing published by the U.S. Census Bureau. In addition, to simplify the descriptions of targeted categories, the entries for research and development have been combined with the entries for manufacturing at 219.1005(b)(5), (6), and (7). These changes are administrative only and have no impact on the Program.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subpart in accordance with 5 U.S.C. 610. Such comments should cite DFARS Case 2003-D003.

C. Paperwork Reduction Act

The Paperwork Reduction Act does not apply because the rule does not impose any information collection requirements that require the approval of the Office of Management and Budget under 44 U.S.C. 3501, et seq.

List of Subjects in 48 CFR Part 219

Government procurement.

Michele P. Peterson,
Executive Editor, Defense Acquisition Regulations Council.

Therefore, 48 CFR Part 219 is amended as follows:

1. The authority citation for 48 CFR Part 219 continues to read as follows:

Authority: 41 U.S.C. 421 and 48 CFR Chapter 1.

PART 219—SMALL BUSINESS PROGRAMS

2. Section 219.1005 is amended in paragraph (b), in the table, by revising paragraphs (5), (6), (7), and (10) to read as follows:

219.1005 Applicability.

* * * * *

(b) * * *

North American Industry Classification System (NAICS)
Description | NAICS code
* * * * * * *
(5) Aircraft Engine and Engine Parts Manufacturing (including Research and Development) | 336412
(6) Guided Missile and Space Vehicle Manufacturing (including Research and Development) | 336414
(7) Other Guided Missile and Space Vehicle Parts and Auxiliary Equipment Manufacturing (including Research and Development) | 336419
* * * * * * *
(10) (i) Cellular and Other Wireless Telecommunications | 517212
(ii) Satellite Telecommunications | 517410
(iii) Other Telecommunications | 517910

[FR Doc. 03-21314 Filed 8-20-03; 8:45 am]

BILLING CODE 5001-08-P